DEPARTMENT OF ENERGY

Federal Energy Regulatory Commission

[Project No. 14252-000]

Bellwood Hydro, LLC; Notice of Preliminary Permit Application Accepted for Filing and Soliciting Comments, Motions To Intervene, and Competing Applications

On August 9, 2011, Bellwood Hydro, LLC, filed an application for a preliminary permit, pursuant to section 4(f) of the Federal Power Act (FPA), proposing to study the feasibility of the Bellwood Pumped Storage Project to be located on Tipton Run in Blair County, Pennsylvania. The sole purpose of a preliminary permit, if issued, is to grant the permit holder priority to file a license application during the permit term. A preliminary permit does not authorize the permit holder to perform any land-disturbing activities or otherwise enter upon lands or waters owned by others without the owners' express permission.

The proposed project would consist of: (1) A new 3,700-foot-long, 275-foot-high rock or earth fill main dam and a new 2,500-foot-long, 60-foot-high rock or earth fill saddle dam forming an upper reservoir having a surface area of 101 acres and a total storage capacity of 10,600 acre-feet at a normal maximum operating elevation of 2,440 feet mean sea level (msl); (2) a new 1,530-foot-long, 185-foot-high rock or earth fill dam forming a lower reservoir having a surface area of 120 acres and a total storage capacity of 9,400 acre-feet at a normal maximum operating level of 1,460 feet msl; (3) a 30-foot-diameter, 2,570-foot-long steel or concrete power tunnel that extends from the upper reservoir to a 1,200-foot-long vertical shaft connecting the power tunnel to the penstock; (4) a 1,000-foot-long steel-lined penstock; (5) a 290-foot-long by 140-foot-wide by 120-foot-high underground powerhouse containing three turbine units with a rated capacity of 250 megawatts each; (6) a 40-foot-diameter, 4,000-foot-long tailrace tunnel connecting the turbine draft tubes with the lower reservoir; (7) a 500-kilovolt, 7.3-mile-long transmission line; and (8) appurtenant facilities. The project would have an annual generation of 1,973 gigawatt-hours.

Applicant Contact: Vincent Lamarra, Bellwood Hydro, LLC, 975 South State Highway 89/91, Logan, UT 84321; phone: (435) 752-2580.

FERC Contact: Monir Chowdhury; phone: (202) 502-6736.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-14252-000) in the docket number field to access the document. For assistance, contact FERC Online Support.

Dated: September 21, 2011.
Kimberly D. Bose,
Secretary.

[FR Doc. 2011-24959 Filed 9-27-11; 8:45 am]

BILLING CODE 6717-01-P